DEPARTMENT OF EDUCATION

[CFDA No. 84.336A]

Office of Postsecondary Education; Teacher Quality Enhancement Grants Program—State Grants; Notice Inviting Applications for New Awards for Fiscal Year (FY) 2003

Purpose of Program: To provide grants to promote improvements in the quality of new teachers with the ultimate goal of increasing student achievement in the nation's K-12 classrooms. State Grants are designed to improve the quality of a State's teaching force by supporting the implementation of comprehensive statewide reform activities in areas such as teacher licensing and certification, accountability for high-quality teacher preparation, and recruitment.

Eligible Applicants: States, as defined in section 103(16) of the Higher Education Act of 1965, as amended (HEA).

Note: A State that received a previous grant under this program is not eligible for a FY 2003 grant. The following States are eligible: Alaska, Arizona, Delaware, Hawaii, Iowa, Montana, Minnesota, New Hampshire, New York, and the Commonwealth of the Northern Mariana Islands, Guam, the Republic of Marshall Islands, the Republic of Palau, and the United States Virgin Islands.

Applications Available: May 1, 2003.

Deadline for Transmittal of Applications: June 16, 2003.

Deadline for Intergovernmental Review: August 18, 2003.

Available Funds: $7,645,000.

Estimated Range of Awards: $2,000,000-$3,000,000 per year.

Estimated Average Size of Awards: $2,500,000 per year.

Estimated Number of Awards: 3.

Note: The Department is not bound by any estimates in this notice.

Project Period: Up to 36 months.

Page Limit: The application narrative is where you, the applicant, address the selection criteria reviewers use to evaluate your application.

If you are submitting an application for a State grant, you must limit your narrative to the equivalent of no more than 50 pages and your accompanying work plan to the equivalent of no more than 10 pages. Submit the work plan as an appendix. In addition, you must limit your budget narrative to the equivalent of no more than 10 pages and your evaluation plan to the equivalent of no more than 5 pages.

For the application narrative, work plan, budget narrative, and evaluation plan, the following standards apply:

• A “page” is 8.5″ x 11″, on one side only, with 1″ margins at the top, bottom, and both sides.

• Double space (no more than three lines per vertical inch) all text, including titles, headings, quotations, references, and captions.

• Use a font that is either 12-point or larger or no smaller than 10 pitch (characters per inch).

• For tables, charts, or graphs also use a font that is either 12-point or larger or no smaller than 10 pitch.

Our reviewers will not read any of the specified sections of your application that—

• Exceed the page limit if you apply these standards; or

• Exceed the equivalent of the page limit if you apply other standards.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2003, the U.S. Department of Education is continuing to expand its pilot project for electronic submission of applications to include additional formula grant programs and additional discretionary grant competitions. The Teacher Quality Enhancement Grants Program—State Grants is one of the programs included in the pilot project. If you are an applicant under the Teacher Quality Enhancement Grants Program—State Grants you may submit your application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You must submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The State's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the Teacher Quality Enhancement Grants Program's State Grants Program and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under For Further Information Contact or (2) the e-GRANTS help desk at 1-888-336-8930.

You may access the electronic grant application for the Teacher Quality Enhancement Grants Program's State Grant Program at: http://e-grants.ed.gov.

We have included additional information about the e-Application pilot project (see Parity Guidelines between Paper and Electronic Applications) in the application package.

Applicable Regulations: (a) The Education Department General Administrative Regulations (EDGAR) in 34 CFR parts 74, 75, 77, 79, 80, 82, 85, 86, 97, 98 and 99. (b) The regulations for this program in 34 CFR part 611.

Priority: This competition focuses on projects designed to meet a priority in the regulations for this program (34 CFR 611.13).

The Secretary provides a competitive preference on the basis of how well the State's proposed activities in any one or more of the following statutory priorities are likely to yield successful and sustained results:

(a) Initiatives to reform State teacher licensure and certification requirements so that current and future teachers possess strong teaching skills and academic content knowledge in the subject areas they will be certified or licensed to teach.

(b) Innovative reforms to hold higher education institutions with teacher preparation programs accountable for preparing teachers who are highly competent in the academic content areas and have strong teaching skills.

(c) Innovative efforts to reduce the shortage (including the high turnover) of highly competent teachers in high-poverty urban and rural areas.

Under 34 CFR 75.105(c)(2)(i) we award up to an additional 10 points to an application, depending on how well the application meets one or more of these priorities.

Special Funding Considerations: The program regulations (34 CFR part 611.3(c)) provide that when two or more applicants are ranked equally for the last available award, the Secretary selects the applicant whose activities will focus (or have most impact) on local educational agencies and schools located in one (or more) of the Nation's Empowerment Zones and Enterprise Communities.

For Applications and Further Information Contact: Luretha Kelley, Teacher Quality Program, Office of Postsecondary Education, U.S. Department of Education, 1990 K Street NW., Room 7096, Washington, DC 20006-8525. Telephone: (202) 502-7878, FAX: (202) 502-7864 or via Internet: Luretha.Kelley@ed.gov.

If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have the Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1021 et seq.

Dated: April 28, 2003.
Sally L. Stroup,
Assistant Secretary, Office of Postsecondary Education.

[FR Doc. 03-10765 Filed 4-30-03; 8:45 am]

BILLING CODE 4001-01-P